DEPARTMENT OF ENERGY

Federal Energy Regulatory Commission

[Docket No. RP03-271-001]

Transcontinental Gas Pipe Line Corporation; Notice of Compliance Filing

March 12, 2003.

Take notice that on March 7, 2003, Transcontinental Gas Pipe Line Corporation (Transco) tendered for filing as part of its FERC Gas Tariff, Third Revised Volume No. 1, the tariff sheets listed in Appendix A attached to the filing, with an effective date of April 1, 2003.

Transco states that the purpose of the instant filing is to supplement Transco's Electric Power Tracker filing of February 28, 2003 (February 28 filing), which inadvertently reflected an incorrect calculation of the MDt-Miles and the Traversing Volumetric Determinants included in the allocation and rate design of the Transmission Electric Power (TEP) Rates.

Further, Transco states that it is removing $2,076 from its Estimated TEP costs included in the February 28 filing related to projected Station 535 TEP costs. Transco has determined that these estimated costs are storage-related and thus should not have been included in the Estimated TEP costs included in February 28 filing.

Transco states that it is serving copies of the instant filing to its affected customers, interested State Commissions and other interested parties.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 19, 2003.

Magalie R. Salas,
Secretary.

[FR Doc. 03-6534 Filed 3-18-03; 8:45 am]

BILLING CODE 6717-01-P